DEPARTMENT OF HEALTH AND HUMAN SERVICES

Health Resources and Services Administration

Meeting of the Advisory Commission on Childhood Vaccines; Correction

AGENCY: Health Resources and Services Administration (HRSA), Department of Health and Human Services.

ACTION: Notice; correction.

SUMMARY: HRSA published a document in the Federal Register of January 28, 2021, concerning a meeting of the Advisory Commission on Childhood Vaccines. The document contained incorrect dates. The date of the June 2021 Advisory Commission on Childhood Vaccines (ACCV) meeting has changed. The original date for the June 2021 ACCV meeting was June 3, 2021. The new date for the June 2021 ACCV meeting is June 18, 2021.

FOR FURTHER INFORMATION CONTACT: Annie Herzog, Division of Injury Compensation Programs, HRSA, 5600 Fishers Lane, Rockville, Maryland, 20857, (301) 443-6634; or ACCV@HRSA.gov.

SUPPLEMENTARY INFORMATION: For the latest information regarding the meeting, including its start time and the agenda, please access the ACCV website: https://www.hrsa.gov/advisory-committees/vaccines/meetings.html.

Correction

In the Federal Register of January 28, 2021, FR Doc. 2021-01879, page 7402, column 3, section 1, paragraph 2, correct the Dates caption to read:

DATES: ACCV meetings will be held on:

• March 4, 2021, 10:00 a.m. Eastern Time (ET)-4:00 p.m. ET;

• June 18, 2021, 10:00 a.m. ET-4:00 p.m. ET;

• September 2, 2021, 10:00 a.m. ET- 4:00 p.m. ET;

• December 2, 2021, 10:00 a.m. ET- 4:00 p.m. ET.

Maria G. Button,
Director, Executive Secretariat.

[FR Doc. 2021-08942 Filed 4-28-21; 8:45 am]

BILLING CODE 4165-15-P